DEPARTMENT OF ENERGY

10 CFR Part 851

[Docket No. EH-RM-04-WSHP]

RIN 1901-AA99

Worker Safety and Health Program; Correction

AGENCY: Department of Energy.

ACTION: Final rule; correction.

SUMMARY: The Department of Energy published in the Federal Register of February 9, 2006, a final rule to implement the statutory mandate of section 3173 of the Bob Stump National Defense Authorization Act (NDAA) for Fiscal Year 2003 to establish worker safety and health regulations govern contractor activities at DOE sites. Inadvertently there were some typographical errors made in several sections of the rule. This document corrects that version of the final rule.

DATES: This correction is effective on June 28, 2006.

FOR FURTHER INFORMATION CONTACT: Jacqueline D. Rogers, U.S. Department of Energy, Office of Environment, Safety and Health, EH-52, 1000 Independence Avenue, SW., Washington, DC 20585, 202-586-4714.

SUPPLEMENTARY INFORMATION: The Department of Energy published a document in the Federal Register of February 9, 2006, (71 FR 6857) establishing (1) the framework for a worker protection program that will reduce or prevent occupational injuries, illnesses, and accidental losses by requiring DOE contractors to provide their employees' with safe and healthful workplaces; and (2) procedures for investigating whether a requirement has been violated, for determining the nature of such violations, and for imposing appropriate remedy.

In FR Doc. 06-964, published in the Federal Register of February 9, 2006, (71 FR 6857), make the following corrections to the preamble:

(1) On page 6898, in the third column, at the beginning of the first full paragraph, remove the words “Section 851.26(a)” and add in its place “Section 851.26(a)(1)”.

(2) On page 6898, in the third column, at the beginning of the second paragraph, remove the words “Section 851.26(a)(1)” and add in its place “Section 851.26(a)(2)”.

(3) On page 6898, in the third column, at the beginning of the third paragraph, remove the words “Section 851(a)(2)” and add in its place “Section 851(a)(3)”.

(4) On page 6898, in the third column, at the beginning of the fourth paragraph, remove the words “Section 851.26(b)” and add in its place “Sections 851.26(b)(1) and (2)”.

(5) On page 6898, in the third column, at the beginning of the fifth paragraph, remove the words “Section 851.26(c)” and add in its place “Section 851.26(a)(4)”.

In the same document make the following corrections to the regulatory text:

§ 851.7 [Corrected]

(1) On page 6933, in the third column, § 851.7(a) add the word “shall” before the word “have”.

§ 851.31 [Corrected]

(2) On page 6938, in the first column, paragraph (d)(1) remove the words “paragraph (b)” and add in its place “paragraph (c)”.

(3) On page 6938, in the second column, paragraphs (d)(2) and (d)(3)(i), remove the words “paragraph (b)” and add in its place “paragraph (c)”.

Appendix A—[Corrected]

(4) On page 6941, in the second column, paragraph (c)(3) add the word “unique” before the words “pressure vessel”.

Issued in Washington, DC on June 20, 2006.
C. Russell H. Shearer,
Acting Assistant Secretary for Environment, Safety and Health.

[FR Doc. 06-5864 Filed 6-27-06; 8:45 am]

BILLING CODE 6450-01-P